DEPARTMENT OF HEALTH AND HUMAN SERVICES

Food and Drug Administration

21 CFR Part 1

[Docket No. FDA-2007-N-0465]

Label Requirement for Food That Has Been Refused Admission Into the United States; Correction

AGENCY: Food and Drug Administration, HHS.

ACTION: Proposed rule; correction.

SUMMARY: The Food and Drug Administration (FDA) is correcting a proposed rule that appeared in the Federal Register of Thursday, September 18, 2008 (73 FR 54106). The document issued a proposed rule that would require owners or consignees to label imported food that is refused entry into the United States. The preamble to the proposed rule inadvertently omitted a reference. This document corrects that error.

DATES: Effective October 27, 2008.

FOR FURTHER INFORMATION CONTACT: Philip L. Chao, Office of Policy, Planning, and Preparedness (HF-23), Food and Drug Administration, 5600 Fishers Lane, Rockville, MD 20857, 301-827-0587.

SUPPLEMENTARY INFORMATION: In FR Doc. E8-21813, appearing on page 54118, in the Federal Register of Thursday, September 18, 2008, the following correction is made;

1. On page 54118, in the first column, after reference number “6.” and before the “List of Subjects in 21 CFR Part 1,” reference “7. ” is added to read:

“7. Memorandum to the record from J. Bradley Brown, Food and Drug Administration, dated March 20, 2008.”

Dated: October 21, 2008.
Jeffrey Shuren,
Associate Commissioner for Policy and Planning.

[FR Doc. E8-25588 Filed 10-24-08; 8:45 am]

BILLING CODE 4160-01-S